DEPARTMENT OF STATE

[Public Notice: 6705]

Correction to 30-Day Notice of Proposed Information Collection: DS-7655, Iraqi Citizens and Nationals Employed by U.S. Federal Contractors, Grantees, and Cooperative Agreement Partners, OMB Control Number 1405-0184; Corrections

AGENCY: Department of State.

ACTION: Notice; correction.

SUMMARY: This document contains a correction to the 30-Day Notice of Proposed Information Collection: DS-7655, Iraqi Citizens and Nationals Employed by U.S. Federal Contractors, Grantees, and Cooperative Agreement Partners, OMB Control Number 1405-0184 published in the Federal Register on Tuesday, July 14, 2009, in Volume 74-No. 133, page 34070. The document contained incorrect `Estimated Number of Responses' due to a typographical error.

FOR FURTHER INFORMATION CONTACT: Robert S. Lower (POC), Department of State, A/LM Room 525, P.O. Box 9115 Rosslyn Station, Arlington, VA 22219, who may be reached at 703-875-5822 or at LowerRS@state.gov.

Correction

In the Federal Register of Tuesday, July 14, 2009, in Volume 74-No. 133, page 34070, in the 3rd column 7th bullet, correct the 7th bullet to read:

• Estimated Number of Responses: 200.

Dated: July 15, 2009.
William H. Moser,
Deputy Assistant Secretary, Office of Logistics Management, Bureau of Administration, Department of State.

[FR Doc. E9-17549 Filed 7-23-09; 8:45 am]

BILLING CODE 4710-24-P